DEPARTMENT OF THE INTERIOR

Fish and Wildlife Service

50 CFR Part 20

[Docket No. FWS-HQ-MB-2014-0017; FF09M21200-134-FXMB1231099BPP0]

RIN 1018-AZ80

Migratory Bird Hunting; Early Seasons and Bag and Possession Limits for Certain Migratory Game Birds in the Contiguous United States, Alaska, Hawaii, Puerto Rico, and the Virgin Islands

AGENCY: Fish and Wildlife Service, Interior.

ACTION: Final rule.

SUMMARY: This rule prescribes the hunting seasons, hours, areas, and daily bag and possession limits of mourning, white-winged, and white-tipped doves; band-tailed pigeons; rails; moorhens and gallinules; woodcock; common snipe; sandhill cranes; sea ducks; early (September) waterfowl seasons; migratory game birds in Alaska, Hawaii, Puerto Rico, and the Virgin Islands; youth waterfowl day; and some extended falconry seasons. Taking of migratory birds is prohibited unless specifically provided for by annual regulations. This rule permits taking of designated species during the 2014-15 season.

DATES: This rule is effective on August 29, 2014.

ADDRESSES: You may inspect comments received on the migratory bird hunting regulations during normal business hours at the Service's office at 5275 Leesburg Pike, Falls Church, Virginia. You may obtain copies of referenced reports from the street address above, or from the Division of Migratory Bird Management's Web site at http://www.fws.gov/migratorybirds/, or at http://www.regulations.gov at Docket No. FWS-HQ-MB-2014-0017.

FOR FURTHER INFORMATION CONTACT: Ron W. Kokel, Division of Migratory Bird Management, U.S. Fish and Wildlife Service, (703) 358-1714.

SUPPLEMENTARY INFORMATION:

Regulations Schedule for 2014

On April 30, 2014, we published in the Federal Register (79 FR 24512) a proposal to amend 50 CFR part 20. The proposal provided a background and overview of the migratory bird hunting regulations process, and addressed the establishment of seasons, limits, and other regulations for hunting migratory game birds under §§ 20.101 through 20.107, 20.109, and 20.110 of subpart K. Major steps in the 2014-15 regulatory cycle relating to open public meetings and Federal Register notifications were also identified in the April 30 proposed rule. Further, we explained that all sections of subsequent documents outlining hunting frameworks and guidelines were organized under numbered headings. Subsequent documents will refer only to numbered items requiring attention. Therefore, it is important to note that we omit those items requiring no attention, and remaining numbered items might be discontinuous or appear incomplete.

On June 4, 2014, we published in the Federal Register (79 FR 32418) a second document providing supplemental proposals for early- and late-season migratory bird hunting regulations. The June 4 supplement also provided detailed information on the 2014-15 regulatory schedule and announced the Service Regulations Committee (SRC) and Flyway Council meetings. On July 31, 2014, we published in the Federal Register (79 FR 44580) a third document specifically dealing with the proposed frameworks for early-season regulations.

On July 30-31, 2014, we held open meetings with the Flyway Council Consultants at which the participants reviewed the status of waterfowl and developed recommendations for the 2014-15 regulations for these species. Proposed hunting regulations were discussed for late seasons. We published the proposed frameworks for late-season regulations (primarily hunting seasons that start after October 1 and most waterfowl seasons) in an August 22, 2014, Federal Register.

The final rule described here is the sixth in the series of proposed, supplemental, and final rulemaking documents for migratory game bird hunting regulations and deals specifically with amending subpart K of 50 CFR part 20. It sets hunting seasons, hours, areas, and limits for mourning, white-winged, and white-tipped doves; band-tailed pigeons; rails; moorhens and gallinules; woodcock; common snipe; sandhill cranes; sea ducks; early (September) waterfowl seasons; migratory game birds in Alaska, Hawaii, Puerto Rico, and the Virgin Islands; youth waterfowl hunting day; and some extended falconry seasons. This final rule is the culmination of the rulemaking process for the migratory game bird early hunting seasons, which started with the April 30 proposed rule. As discussed elsewhere in this document, we supplemented that proposal on June 4 and July 31, and published final early season frameworks in a late August Federal Register that provided the season selection criteria from which the States selected these seasons. This final rule sets the migratory game bird early hunting seasons based on that input from the States. We previously addressed all comments pertaining to early season issues in that late August Federal Register.

National Environmental Policy Act (NEPA)

The programmatic document, “Second Final Supplemental Environmental Impact Statement: Issuance of Annual Regulations Permitting the Sport Hunting of Migratory Birds (EIS 20130139),” filed with the Environmental Protection Agency (EPA) on May 24, 2013, addresses NEPA compliance by the Service for issuance of the annual framework regulations for hunting of migratory game bird species. We published a notice of availability in the Federal Register on May 31, 2013 (78 FR 32686), and our Record of Decision on July 26, 2013 (78 FR 45376). We also address NEPA compliance for waterfowl hunting frameworks through the annual preparation of separate environmental assessments, the most recent being “Duck Hunting Regulations for 2014-15,” with its corresponding August 2014 finding of no significant impact. In addition, an August 1985 environmental assessment entitled “Guidelines for Migratory Bird Hunting Regulations on Federal Indian Reservations and Ceded Lands” is available from the person indicated under the caption FOR FURTHER INFORMATION CONTACT.

Endangered Species Act Consideration

Section 7 of the Endangered Species Act of 1973, as amended (16 U.S.C. 1531 et seq.), provides that, “The Secretary shall review other programs administered by him and utilize such programs in furtherance of the purposes of this Act” (and) shall “insure that any action authorized, funded, or carried out * * * is not likely to jeopardize the continued existence of any endangered species or threatened species or result in the destruction or adverse modification of [critical] habitat. * * *.” Consequently, we conducted formal consultations to ensure that actions resulting from these regulations would not likely jeopardize the continued existence of endangered or threatened species or result in the destruction or adverse modification of their critical habitat. Findings from these consultations are included in a biological opinion, which concluded that the regulations are not likely to jeopardize the continued existence of any endangered or threatened species. Additionally, these findings may have caused modification of some regulatory measures previously proposed, and the final frameworks reflect any such modifications. Our biological opinions resulting from this section 7 consultation are public documents available at the address indicated under ADDRESSES.

Regulatory Planning and Review (Executive Orders 12866 and 13563)

Executive Order 12866 provides that the Office of Information and Regulatory Affairs (OIRA) will review all significant rules. OIRA has reviewed this rule and has determined that this rule is significant because it would have an annual effect of $100 million or more on the economy. Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

An updated economic analysis was prepared for the 2013-14 season. This analysis was based on data from the newly released 2011 National Hunting and Fishing Survey, the most recent year for which data are available (see discussion in Regulatory Flexibility Act section below). This analysis estimated consumer surplus for three alternatives for duck hunting (estimates for other species are not quantified due to lack of data). The alternatives were: (1) Issue restrictive regulations allowing fewer days than those issued during the 2012-13 season, (2) issue moderate regulations allowing more days than those in alternative 1, and (3) issue liberal regulations identical to the regulations in the 2012-13 season. For the 2013-14 season, we chose Alternative 3, with an estimated consumer surplus across all flyways of $317.8-$416.8 million. For the 2014-15 season, we have also chosen alternative 3. We also chose alternative 3 for the 2009-10, the 2010-11, the 2011-12, and the 2012-13 seasons. The 2013-14 analysis is part of the record for this rule and is available at http://www.regulations.gov at Docket No. FWS-HQ-MB-2014-0017.

Regulatory Flexibility Act

The annual migratory bird hunting regulations have a significant economic impact on substantial numbers of small entities under the Regulatory Flexibility Act (5 U.S.C. 601 et seq.). We analyzed the economic impacts of the annual hunting regulations on small business entities in detail as part of the 1981 cost-benefit analysis. This analysis was revised annually from 1990-95. In 1995, the Service issued a Small Entity Flexibility Analysis (Analysis), which was subsequently updated in 1996, 1998, 2004, 2008, and 2013. The primary source of information about hunter expenditures for migratory game bird hunting is the National Hunting and Fishing Survey, which is conducted at 5-year intervals. The 2013 Analysis was based on the 2011 National Hunting and Fishing Survey and the U.S. Department of Commerce's County Business Patterns, from which it was estimated that migratory bird hunters would spend approximately $1.5 billion at small businesses in 2013. Copies of the Analysis are available at http://www.regulations.gov at Docket No. FWS-HQ-MB-2014-0017.

Small Business Regulatory Enforcement Fairness Act

This rule is a major rule under 5 U.S.C. 804(2), the Small Business Regulatory Enforcement Fairness Act. For the reasons outlined above, this rule will have an annual effect on the economy of $100 million or more. However, because this rule establishes hunting seasons, we are not deferring the effective date under the exemption contained in 5 U.S.C. 808(1).

Paperwork Reduction Act

This final rule does not contain any new information collection that requires approval under the Paperwork Reduction Act of 1995 (44 U.S.C. 3501 et seq.). We may not conduct or sponsor and you are not required to respond to a collection of information unless it displays a currently valid Office of Management and Budget (OMB) control number. OMB has reviewed and approved the information collection requirements associated with migratory bird surveys and assigned the following OMB control numbers:

• 1018-0010—Mourning Dove Call Count Survey (discontinued 7/29/2014).

• 1018-0019—North American Woodcock Singing Ground Survey (expires 4/30/2015).

• 1018-0023—Migratory Bird Surveys (expires 6/30/2017). Includes Migratory Bird Harvest Information Program, Migratory Bird Hunter Surveys, Sandhill Crane Survey, and Parts Collection Survey.

Unfunded Mandates Reform Act

We have determined and certify, in compliance with the requirements of the Unfunded Mandates Reform Act, 2 U.S.C. 1502 et seq., that this rulemaking will not impose a cost of $100 million or more in any given year on local or State government or private entities. Therefore, this rule is not a “significant regulatory action” under the Unfunded Mandates Reform Act.

Civil Justice Reform—Executive Order 12988

The Department, in promulgating this rule, has determined that this rule will not unduly burden the judicial system and that it meets the requirements of sections 3(a) and 3(b)(2) of Executive Order 12988.

Takings Implication Assessment

In accordance with Executive Order 12630, this rule, authorized by the Migratory Bird Treaty Act (16 U.S.C. 703-711), does not have significant takings implications and does not affect any constitutionally protected property rights. This rule will not result in the physical occupancy of property, the physical invasion of property, or the regulatory taking of any property. In fact, this rule allows hunters to exercise otherwise unavailable privileges and, therefore, reduce restrictions on the use of private and public property.

Energy Effects—Executive Order 13211

Executive Order 13211 requires agencies to prepare Statements of Energy Effects when undertaking certain actions. While this rule is a significant regulatory action under Executive Order 12866, it is not expected to adversely affect energy supplies, distribution, or use. Thus, this action is not a significant energy action and no Statement of Energy Effects is required.

Government-to-Government Relationship with Tribes

In accordance with the President's memorandum of April 29, 1994, “Government-to-Government Relations with Native American Tribal Governments” (59 FR 22951), Executive Order 13175, and 512 DM 2, we have evaluated possible effects on Federally-recognized Indian tribes and have determined that there are no effects on Indian trust resources. However, in the April 30 Federal Register, we solicited proposals for special migratory bird hunting regulations for certain Tribes on Federal Indian reservations, off-reservation trust lands, and ceded lands for the 2014-15 migratory bird hunting season. The resulting proposals were contained in a separate August 11, 2014, proposed rule (79 FR 46490). By virtue of these actions, we have consulted with Tribes.

Federalism Effects

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and tribes to determine which seasons meet their individual needs. Any State or Indian tribe may be more restrictive than the Federal frameworks at any time. The frameworks are developed in a cooperative process with the States and the Flyway Councils. This process allows States to participate in the development of frameworks from which they will make selections, thereby having an influence on their own regulations. These rules do not have a substantial direct effect on fiscal capacity, change the roles or responsibilities of Federal or State governments, or intrude on State policy or administration. Therefore, in accordance with Executive Order 13132, these regulations do not have significant federalism effects and do not have sufficient federalism implications to warrant the preparation of a federalism summary impact statement.

Review of Public Comments

The preliminary proposed rulemaking (April 30 Federal Register) opened the public comment period for 2014-15 migratory game bird hunting regulations. We previously addressed all comments pertaining to early season issues in a late August Federal Register.

Regulations Promulgation

The rulemaking process for migratory game bird hunting must, by its nature, operate under severe time constraints. However, we intend that the public be given the greatest possible opportunity to comment. Thus, when the preliminary proposed rulemaking was published, we established what we believed were the longest periods possible for public comment. In doing this, we recognized that, when the comment period closed, time would be of the essence. That is, if there were a delay in the effective date of these regulations after this final rulemaking, States would have insufficient time to select season dates and limits; to communicate those selections to us; and to establish and publicize the necessary regulations and procedures to implement their decisions. We find that “good cause” exists, within the terms of 5 U.S.C. 553(d)(3) of the Administrative Procedure Act, and therefore, under authority of the Migratory Bird Treaty Act (July 3, 1918), as amended (16 U.S.C. 703-711), these regulations will take effect less than 30 days after publication. Accordingly, with each conservation agency having had an opportunity to participate in selecting the hunting seasons desired for its State or Territory on those species of migratory birds for which open seasons are now prescribed, and consideration having been given to all other relevant matters presented, certain sections of title 50, chapter I, subchapter B, part 20, subpart K, are hereby amended as set forth below.

List of Subjects in 50 CFR Part 20

Exports, Hunting, Imports, Reporting and recordkeeping requirements, Transportation, Wildlife.

Dated: August 18, 2014.
Michael J. Bean,
Principal Deputy Assistant Secretary for Fish and Wildlife and Parks.

For the reasons set out in the preamble, title 50, chapter I, subchapter B, part 20, subpart K of the Code of Federal Regulations is amended as follows:

PART 20—[AMENDED]

1. The authority citation for part 20 continues to read as follows:

Authority: Migratory Bird Treaty Act, 40 Stat. 755, 16 U.S.C. 703-712; Fish and Wildlife Act of 1956, 16 U.S.C. 742 a-j, Pub. L. 106-108, 113 Stat. 1491, Note Following 16 U.S.C. 703.

Note The following annual hunting regulations provided for by §§ 20.101 through 20.106 and 20.109 of 50 CFR part 20 will not appear in the Code of Federal Regulations because of their seasonal nature.

2. Section 20.101 is revised to read as follows:

§ 20.101 Seasons, limits, and shooting hours for Puerto Rico and the Virgin Islands.

Subject to the applicable provisions of the preceding sections of this part, areas open to hunting, respective open seasons (dates inclusive), shooting and hawking hours, and daily bag and possession limits for the species designated in this section are prescribed as follows:

Shooting and hawking hours are one-half hour before sunrise until sunset.

CHECK COMMONWEALTH REGULATIONS FOR AREA DESCRIPTIONS AND ANY ADDITIONAL RESTRICTIONS

(a) Puerto Rico.

| Season Dates | Limits: Bag | Limits: Possession
Doves and Pigeons:
Zenaida, white-winged, and mourning doves (1) | Sept. 6-Nov. 3 | 20 | 20
Scaly-naped pigeons | Sept. 6-Nov. 3 | 5 | 5
Ducks | Nov. 15-Dec. 15 & Jan. 10-Jan. 26 | 6 6 | 12 12
Common Moorhens | Nov. 15-Dec. 15 & Jan. 10-Jan. 26 | 6 6 | 12 12
Common Snipe | Nov. 15-Dec. 15 & Jan. 10-Jan. 26 | 8 8 | 16 16

(1) Not more than 10 Zenaida and 3 mourning doves in the aggregate.

Restrictions: In Puerto Rico, the season is closed on the ruddy duck, white-cheeked pintail, West Indian whistling duck, fulvous whistling duck, masked duck, purple gallinule, American coot, Caribbean coot, white-crowned pigeon, and plain pigeon.

Closed Areas: Closed areas are described in the July 31, 2014, Federal Register (79 FR 44580).

(b) Virgin Islands.

| Season Dates | Limits: Bag | Limits: Possession
Zenaida doves | Sept. 1-Sept. 30 | 10 | 10
Ducks | CLOSED

Restrictions: In the Virgin Islands, the seasons are closed for ground or quail doves, pigeons, ruddy duck, white-cheeked pintail, West Indian whistling duck, fulvous whistling duck, masked duck, and purple gallinule.

Closed Areas: Ruth Cay, just south of St. Croix, is closed to the hunting of migratory game birds. All Offshore Cays under jurisdiction of the Virgin Islands Government are closed to the hunting of migratory game birds.

3. Section 20.102 is revised to read as follows:

§ 20.102 Seasons, limits, and shooting hours for Alaska.

Subject to the applicable provisions of the preceding sections of this part, areas open to hunting, respective open seasons (dates inclusive), shooting and hawking hours, and daily bag and possession limits for the species designated in this section are prescribed as follows:

Shooting and hawking hours are one-half hour before sunrise until sunset. Area descriptions were published in the July 31, 2014, Federal Register (79 FR 44580).

CHECK STATE REGULATIONS FOR AREA DESCRIPTIONS AND ANY ADDITIONAL RESTRICTIONS

Area seasons | Dates
North Zone | Sept. 1-Dec. 16
Gulf Coast Zone | Sept. 1-Dec. 16
Southeast Zone | Sept. 16-Dec. 31
Pribilof & Aleutian Islands Zone | Oct. 8-Jan. 22
Kodiak Zone | Oct. 8-Jan. 22

Daily Bag and Possession Limits
Area | Ducks (1) | Canada Geese (2)(3) | White Fronted Geese (4)(5) | Light Geese (6) | Brant | Emperor Geese | Snipe | Sandhill Cranes (7)
North Zone | 10-30 | 4-12 | 4-12 | 4-12 | 2-6 | Closed | 8-24 | 3-9
Gulf Coast Zone | 8-24 | 4-12 | 4-12 | 4-12 | 2-6 | Closed | 8-24 | 2-6
Southeast Zone | 7-21 | 4-12 | 4-12 | 4-12 | 2-6 | Closed | 8-24 | 2-6
Pribilof and Aleutian Islands Zone | 7-21 | 4-12 | 4-12 | 4-12 | 2-6 | Closed | 8-24 | 2-6
Kodiak Zone | 7-21 | 4-12 | 4-12 | 4-12 | 2-6 | Closed | 8-24 | 2-6

(1) The basic duck bag limits may include no more than 1 canvasback daily, and may not include sea ducks. In addition to the basic duck limits, sea duck limits of 10 daily, singly or in the aggregate, including no more than 6 each of either harlequin or long-tailed ducks, are allowed. Sea ducks include scoters, common and king eiders, harlequin ducks, long-tailed ducks, and common and red-breasted mergansers. The season for Steller's and spectacled eiders is closed.

(2) In Units 5 and 6, the taking of Canada geese is only permitted from September 28 through December 16. In the Middleton Island portion of Unit 6, the taking of Canada geese is by special permit only. The maximum number of Canada goose permits is 10 for the season. A mandatory goose identification class is required. Hunters must check in and out. The daily bag and possession limit is 1. The season will close if incidental harvest includes 5 dusky Canada geese. A dusky Canada goose is any dark-breasted Canada goose (Munsell 10 YR color value five or less) with a bill length between 40 and 50 millimeters. In Unit 6-B, 6-C, and on Hinchinbrook and Hawkins Islands in Unit 6-D, the possession limit is 2 times the daily bag limit.

(3) In Units 9, 10, 17, and 18, the daily bag limit is 6 Canada geese.

(4) In Units 9, 10, and 17, the daily bag limit is 6 white-fronted geese.

(5) In Unit 18, the daily bag limit is 8 white-fronted geese.

(6) Light geese include snow geese and Ross' geese.

(7) In Unit 17 of the North Zone, the daily bag limit for sandhill cranes is 2 and the possession limit is 6.

Falconry: The total combined bag and possession limit for migratory game birds taken with the use of a falcon under a falconry permit is 3 per day, 9 in possession, and may not exceed a more restrictive limit for any species listed in this subsection.

Special Tundra Swan Season: In Units 17, 18, 22, and 23, there will be a tundra swan season from September 1 through October 31 with a season limit of 3 tundra swans per hunter. This season is by registration permit only; hunters will be issued 1 permit allowing the take of up to 3 tundra swans. Hunters will be required to file a harvest report after the season is completed. Up to 500 permits may be issued in Unit 18; 300 permits each in Units 22 and 23; and 200 permits in Unit 17.

4. Section 20.103 is revised to read as follows:

§ 20.103 Seasons, limits, and shooting hours for doves and pigeons.

Subject to the applicable provisions of the preceding sections of this part, areas open to hunting, respective open seasons (dates inclusive), shooting and hawking hours, and daily bag and possession limits for the species designated in this section are prescribed as follows:

Shooting and hawking hours are one-half hour before sunrise until sunset except as otherwise noted. Area descriptions were published in the July 31, 2014, Federal Register (79 FR 44580).

CHECK STATE REGULATIONS FOR AREA DESCRIPTIONS AND ANY ADDITIONAL RESTRICTIONS

(a) Doves.

Note: Unless otherwise noted, the seasons listed below are for mourning and white-winged doves in the aggregate.

|  | Season dates | Limits: Bag | Limits: Possession
EASTERN MANAGEMENT UNIT
Alabama:
North Zone | 12 noon to sunset 1/2 hour before sunrise to sunset | Sept. 6 only Sept. 7-Nov. 9 & Dec. 7-Dec. 31 | 15 15 15 | 15 45 45
South Zone | 12 noon to sunset 1/2 hour before sunrise to sunset | Sept. 20 only Sept. 21-Sept. 28 & Oct. 11-Oct. 26 & Nov. 12-Jan. 15 | 15 15 15 15 | 15 45 45 45
Delaware |  | Sept. 1-Sept. 27 & Oct. 20-Nov. 1 & Nov. 24-Jan. 12 | 15 15 15 | 45 45 45
Florida | 12 noon to sunset 1/2 hour before sunrise to sunset | Sept. 27-Oct. 27 Nov. 8-Dec. 1 & Dec. 12-Jan. 15 | 15 15 15 | 45 45 45
Georgia | 12 noon to sunset 1/2 hour before sunrise to sunset | Sept. 6 only Sept. 7-Sept. 21 & Oct. 11-Nov. 3 & Nov. 27-Jan. 15 | 15 15 15 15 | 15 45 45 45
Illinois (1) |  | Sept. 1-Nov. 14 & Dec. 26-Jan. 9 | 15 15 | 45 45
Indiana |  | Sept. 1-Oct. 19 & Nov. 1-Nov. 9 & Dec. 13-Jan. 11 | 15 15 15 | 45 45 45
Kentucky | 11 a.m. to sunset 1/2 hour before sunrise to sunset | Sept. 1 only Sept. 2-Oct. 26 & Nov. 27-Dec. 7 & Dec. 20-Jan. 11 | 15 15 15 15 | 15 45 45 45
Louisiana
North Zone | 1/2 hour before sunrise to sunset | Sept. 6-Sept. 28 & Oct. 11-Nov. 9 & Dec. 10-Jan. 15 | 15 15 15 | 45 45 45
South Zone | 1/2 hour before sunrise to sunset | Sept. 6-Sept. 14 & Oct. 11-Dec. 3 & Dec. 20-Jan. 15 | 15 15 15 | 45 45 45
Maryland | 12 noon to sunset 1/2 hour before sunrise to sunset | Sept. 1-Oct. 11 Nov. 1-Nov. 28 & Dec. 26-Jan. 15 | 15 15 15 | 45 45 45
Mississippi
North Zone |  | Sept. 1-Sept. 21 & Oct. 4-Nov. 9 & Dec. 15-Jan. 15 | 15 15 15 | 45 45 45
South Zone |  | Sept. 13-Sept. 21 & Oct. 4-Nov. 9 & Dec. 3-Jan. 15 | 15 15 15 | 45 45 45
North Carolina |  | Sept. 1-Oct. 11 & Nov. 27-Nov. 29 & Dec. 1-Jan. 15 | 15 15 15 | 45 45 45
Ohio |  | Sept. 1-Nov. 9 & Dec. 13-Jan. 1 | 15 15 | 45 45
Pennsylvania | 12 noon to sunset 1/2 hour before sunrise to sunset | Sept. 1-Sept. 25 & Sept. 26-Nov. 15 & Nov. 22-Nov. 29 & Dec. 27-Jan. 1 | 15 15 15 15 | 45 45 45 45
Rhode Island | 12 noon to sunset 1/2 hour before sunrise to sunset | Sept. 13-Oct. 12 Oct. 18-Nov. 8 & Dec. 17-Jan. 3 | 12 12 12 | 36 36 36
South Carolina | 12 noon to sunset 1/2 hour before sunrise to sunset | Sept. 1-Sept. 6 Sept. 7-Oct. 11 & Nov. 15-Nov. 29 & Dec. 13-Jan. 15 | 15 15 15 15 | 45 45 45 45
Tennessee | 12 noon to sunset 1/2 hour before sunrise to sunset | Sept. 1 only Sept. 2-Sept. 28 & Oct. 11-Nov. 2 & Nov. 29-Jan. 6 | 15 15 15 15 | 15 45 45 45
Virginia | 12 noon to sunset 1/2 hour before sunrise to sunset | Sept. 1-Sept. 5 Sept. 6-Oct. 31 & Nov. 22-Nov. 30 & Dec. 27-Jan. 15 | 15 15 15 15 | 45 45 45 45
West Virginia | 12 noon to sunset 1/2 hour before sunrise to sunset | Sept. 1 only Sept. 2-Oct. 18 & Nov. 3-Nov. 22 & Dec. 22-Jan. 10 | 15 15 15 15 | 15 45 45 45
Wisconsin |  | Sept. 1-Nov. 29 | 15 | 45
CENTRAL MANAGEMENT UNIT:
Arkansas |  | Sept. 6-Oct. 25 & Dec. 20-Jan. 8 | 15 15 | 45 45
Colorado |  | Sept. 1-Nov. 9 | 15 | 45
Iowa |  | Sept. 1-Nov. 9 | 15 | 30
Kansas |  | Sept. 1-Oct. 31 & Nov. 1-Nov. 9 | 15 15 | 45 45
Minnesota |  | Sept. 1-Nov. 9 | 15 | 45
Missouri |  | Sept. 1-Nov 9 | 15 | 45
Montana |  | Sept. 1-Oct. 30 | 15 | 45
Nebraska |  | Sept. 1-Oct. 30 | 15 | 45
New Mexico:
North Zone |  | Sept. 1-Nov. 9 | 15 | 45
South Zone |  | Sept. 1-Oct. 13 & Dec. 5-Dec. 31 | 15 15 | 45 45
North Dakota |  | Sept. 1-Nov. 9 | 15 | 45
Oklahoma |  | Sept. 1-Oct. 31 & Dec. 20-Dec. 28 | 15 15 | 45 45
South Dakota |  | Sept. 1-Nov. 9 | 15 | 45
Texas (2):
North Zone |  | Sept. 1-Oct. 20 & Dec. 19-Jan. 7 | 15 15 | 45 45
Central Zone |  | Sept. 1-Oct. 20 & Dec. 19-Jan. 7 | 15 15 | 45 45
South Zone | Special Area | Sept. 19-Oct. 20 & Dec. 19-Jan. 21 | 15 15 | 45 45
| (Special Season) 12 noon to sunset | Sept. 6-Sept. 7 & Sept. 13-Sept. 14 | 15 15 | 45 45
Remainder of the South Zone |  | Sept. 19-Oct. 20 & Dec. 19-Jan. 25 | 15 15 | 45 45
Wyoming |  | Sept. 1-Nov. 9 | 15 | 45
WESTERN MANAGEMENT UNIT:
Arizona (3) |  | Sept. 1-Sept. 15 & Nov. 21-Jan. 4 | 15 15 | 45 45
California (4) |  | Sept. 1-Sept. 15 & Nov. 8-Dec. 22 | 15 15 | 45 45
Idaho |  | Sept. 1-Oct. 30 | 15 | 45
Nevada |  | Sept. 1-Oct. 30 | 15 | 45
Oregon |  | Sept. 1-Oct. 30 | 15 | 45
Utah |  | Sept. 1-Oct. 30 | 15 | 45
Washington |  | Sept. 1-Sept. 30 | 10 | 30
OTHER POPULATIONS:
Hawaii (5) |  | Nov. 1-Nov. 30 & Dec. 6-Dec. 28 & Jan. 1-Jan. 19 | 10 10 10 | 30 30 30

(1) In Illinois, shooting hours are sunrise to sunset.

(2) In Texas, the daily bag limit is either 15 mourning, white-winged, and white-tipped doves in the aggregate, of which no more than 2 may be white-tipped doves with a maximum 70-day season. Possession limits are three times the daily bag limit. During the special season in the Special White-winged Dove Area of the South Zone, the daily bag limit is 15 mourning, white-winged, and white-tipped doves in the aggregate, of which no more than 2 may be mourning doves and 2 may be white-tipped doves. Possession limits are three times the daily bag limit.

(3) In Arizona, during September 1 through 15, the daily bag limit is 15 mourning and white-winged doves in the aggregate, of which no more than 10 may be white-wing doves. During November 21 through January 4, the daily bag limit is 15 mourning doves.

(4) In California, the daily bag limit is 15 mourning and white-winged doves in the aggregate, of which no more than 10 may be white-wing doves.

(5) In Hawaii, the season is only open on the island of Hawaii. The daily bag limits are 10 mourning doves, spotted doves and chestnut-bellied sandgrouse in the aggregate. Shooting hours are from one-half hour before sunrise through one-half hour after sunset. Hunting is permitted only on weekends and State holidays.

(b) Band-tailed Pigeons.

| Season dates | Limits: Bag | Limits: Possession
Arizona | Sept. 5-Sept. 28 | 2 | 6
California:
North Zone | Sept. 13-Sept. 21 | 2 | 6
South Zone | Dec. 13-Dec. 21 | 2 | 6
Colorado | Sept. 1-Sept. 30 | 5 | 15
New Mexico:
North Zone | Sept. 1-Sept. 20 | 5 | 15
South Zone | Oct. 1-Oct. 20 | 5 | 15
Oregon | Sept. 15-Sept. 23 | 2 | 6
Utah (1) | Sept. 1-Sept. 30 | 2 | 6
Washington | Sept. 15-Sept. 23 | 2 | 6
(1) In Utah, each band-tailed pigeon hunter must have a band-tailed pigeon hunting permit issued by the State.

5. Section 20.104 is revised to read as follows:

§ 20.104 Seasons, limits, and shooting hours for rails, woodcock, and snipe.

Subject to the applicable provisions of the preceding sections of this part, areas open to hunting, respective open seasons (dates inclusive), shooting and hawking hours, and daily bag and possession limits for the species designated in this section are prescribed as follows:

Shooting and hawking hours are one-half hour before sunrise until sunset except as otherwise noted. Area descriptions were published in the July 31, 2014, Federal Register (79 FR 44580).

CHECK STATE REGULATIONS FOR AREA DESCRIPTIONS AND ANY ADDITIONAL RESTRICTIONS.

Note: States with deferred seasons will select those seasons at the same time they select waterfowl seasons in August. Consult late-season regulations for further information.

| Sora and Virginia Rails | Clapper and King Rails | Woodcock | Snipe
Daily bag limit | 25 (1) | 15 (2) | 3 | 8
Possession limit | 75 (1) | 45 (2) | 9 | 24
ATLANTIC FLYWAY
Connecticut (3) | Sept. 2-Nov. 10 | Sept. 2-Nov. 10 | Oct. 22-Nov. 22 & Nov. 24-Dec. 6 | Oct. 22-Nov. 22 & Nov. 24-Dec. 6.
Delaware | Sept. 1-Nov. 8 | Sept. 1-Nov. 8 | Nov. 24-Dec. 6 & Dec. 13-Jan. 13 | Sept. 23-Dec. 6 & Dec. 13-Jan. 13.
Florida | Sept. 1-Nov. 9 | Sept. 1-Nov. 9 | Dec. 18-Jan. 31 | Nov. 1-Feb. 15.
Georgia | Sept. 19-Oct. 31 & Nov. 7-Dec. 3 | Sept. 19-Oct. 31 & Nov. 7-Dec. 3 | Dec. 6-Jan. 19 | Nov. 15-Feb. 28.
Maine (4) | Sept. 1-Nov. 8 | Closed | Oct. 1-Nov. 14 | Sept. 1-Dec. 16.
Maryland (5) | Sept. 1-Nov. 8 | Sept. 1-Nov. 8 | Oct. 31-Nov. 28 & Jan. 16-Jan. 31 | Sept. 24-Nov. 28 & Dec. 15-Jan. 24.
Massachusetts (6) | Sept. 1-Nov. 9 | Closed | Deferred | Sept. 1-Dec. 16.
New Hampshire | Closed | Closed | Oct. 1-Nov. 14 | Sept. 15-Nov. 14.
New Jersey (7):
North Zone | Sept. 1-Nov. 8 | Sept. 1-Nov. 8 | Oct. 18-Nov. 22 | Sept. 17-Jan. 1.
South Zone | Sept. 1-Nov. 8 | Sept. 1-Nov. 8 | Nov. 8-Nov. 29 & Dec. 19-Jan. 1 | Sept. 17-Jan. 1.
New York (8) | Sept. 1-Nov. 9 | Closed | Oct. 1-Nov. 14 | Sept. 1-Nov. 9.
North Carolina | Sept. 8-Oct. 11 & Oct. 27-Dec 1 | Sept. 8-Oct. 11 & Oct. 27-Dec. 1 | Dec. 18-Jan. 31 | Nov. 14-Feb. 28.
Pennsylvania (9) | Sept. 1-Nov. 8 | Closed | Oct. 18-Nov. 29 | Oct. 18-Nov. 29.
Rhode Island (10) | Sept. 1-Nov. 9 | Sept. 1-Nov. 9 | Oct. 18-Dec. 1 | Sept. 1-Nov. 9.
South Carolina | Sept. 8-Sept. 12 & Oct. 6-Dec. 9 | Sept. 8-Sept. 12 & Oct. 6-Dec. 9 | Dec. 18-Jan. 31 | Nov. 14-Feb. 28.
Vermont | Closed | Closed | Oct. 1-Nov. 14 | Oct. 1-Nov. 14.
Virginia | Sept. 8-Nov. 16 | Sept. 8-Nov. 16 | Nov. 24-Dec. 6 & Dec. 15-Jan. 15 | Oct. 10-Oct. 13 & Oct. 21-Jan. 31.
West Virginia (11) | Sept. 1-Nov. 8 | Closed | Oct. 18-Dec. 1 | Sept. 1-Dec. 13.
MISSISSIPPI FLYWAY
Alabama (12) | Sept. 6-Sept. 21 & Nov. 28-Jan. 20 | Sept. 6-Sept. 21 & Nov. 28-Jan. 20 | Dec. 18-Jan. 31 | Nov. 14-Feb. 28.
Arkansas | Sept. 6-Nov. 14 | Closed | Nov. 8-Dec. 22 | Nov. 1-Feb. 15.
Illinois (13) | Sept. 6-Nov. 14 | Closed | Oct. 18-Dec. 1 | Sept. 6-Dec. 21.
Indiana (14) | Sept. 1-Nov. 9 | Closed | Oct. 15-Nov. 28 | Sept. 1-Dec. 6.
Iowa (15) | Sept. 6-Nov. 14 | Closed | Oct. 4-Nov. 17 | Sept. 6-Nov. 29.
Kentucky | Sept. 1-Nov. 9 | Closed | Nov. 1-Dec. 15 | Sept. 17-Oct. 26 & Nov. 27-Feb. 1.
Louisiana (16) | Sept. 13-Sept. 28 | Sept. 13-Sept. 28 | Dec. 18-Jan. 31 | Deferred.
Michigan | Sept. 1-Nov. 9 | Closed | Sept. 20-Nov. 3 | Sept. 1-Nov. 9.
Minnesota | Sept. 1-Nov. 3 | Closed | Sept. 20-Nov. 3 | Sept. 1-Nov. 3.
Mississippi | Sept. 13-Nov. 21 | Sept. 13-Nov. 21 | Dec. 18-Jan. 31 | Nov. 14-Feb. 28.
Missouri | Sept. 1-Nov. 9 | Closed | Oct. 15-Nov. 28 | Sept. 1-Dec. 16.
Ohio | Sept. 1-Nov. 9 | Closed | Oct. 11-Nov. 24 | Sept. 1-Nov. 30 & Dec. 20-Jan. 4.
Tennessee | Deferred | Closed | Oct. 25-Dec. 8 | Nov. 14-Feb. 28.
Wisconsin | Deferred | Closed | Sept. 20-Nov. 3 | Deferred.
CENTRAL FLYWAY
Colorado | Sept. 1-Nov. 9 | Closed | Closed | Sept. 1-Dec. 16.
Kansas | Sept. 1-Nov. 9 | Closed | Oct. 11-Nov. 24 | Sept. 1-Dec. 16.
Montana | Closed | Closed | Closed | Sept. 1-Dec. 16.
Nebraska (17) | Sept. 1-Nov. 9 | Closed | Sept. 20-Nov. 3 | Sept. 1-Dec. 16.
New Mexico (18) | Sept. 13-Nov. 21 | Closed | Closed | Oct. 25-Feb. 8.
North Dakota | Closed | Closed | Sept. 27-Nov. 10 | Sept. 20-Dec. 7.
Oklahoma | Sept. 1-Nov. 9 | Closed | Nov. 1-Dec. 15 | Oct. 1-Jan. 15.
South Dakota (19) | Closed | Closed | Closed | Sept. 1-Oct. 31.
Texas | Sept. 13-Sept. 28 & Nov. 1-Dec. 24 | Sept. 13-Sept. 28 & Nov. 1-Dec. 24 | Dec. 18-Jan. 31 | Nov. 1-Feb. 15.
Wyoming | Sept. 1-Nov. 9 | Closed | Closed | Sept. 1-Dec. 16.
PACIFIC FLYWAY
Arizona | Closed | Closed | Closed | Deferred.
California | Closed | Closed | Closed | Oct. 18-Feb. 1.
Colorado | Sept. 1-Nov. 9 | Closed | Closed | Sept. 1-Dec. 16.
Idaho:
Area 1 | Closed | Closed | Closed | Deferred.
Area 2 | Closed | Closed | Closed | Deferred.
Montana | Closed | Closed | Closed | Sept. 1-Dec. 16.
Nevada | Closed | Closed | Closed | Deferred.
New Mexico (18) | Sept. 13-Nov. 21 | Closed | Closed | Oct. 25-Feb. 8.
Oregon | Closed | Closed | Closed | Deferred.
Utah | Closed | Closed | Closed | Deferred.
Washington | Closed | Closed | Closed | Deferred.
Wyoming | Sept. 1-Nov. 9 | Closed | Closed | Sept. 1-Dec. 16.
(1) The bag and possession limits for sora and Virginia rails apply singly or in the aggregate of these species.
(2) All bag and possession limits for clapper and king rails apply singly or in the aggregate of the two species and, unless otherwise specified, the limits are in addition to the limits on sora and Virginia rails in all States. In Connecticut, Delaware, Maryland, and New Jersey, the limits for clapper and king rails are 10 daily and 30 in possession.
(3) In Connecticut, the daily bag and possession limits may not contain more than 1 king rail.
(4) In Maine, the daily bag and possession limit for sora and Virginia rails is 25.
(5) In Maryland, no more than 1 king rail may be taken per day.
(6) In Massachusetts, the sora rail limits are 5 daily and 15 in possession; the Virginia rail limits are 10 daily and 30 in possession.
(7) In New Jersey, the season for king rail is closed by State regulation.
(8) In New York, the rail daily bag and possession limits are 8 and 24, respectively. Seasons for sora and Virginia rails and snipe are closed on Long Island.
(9) In Pennsylvania, the daily bag and possession limits for sora and Virginia rails, singly or in the aggregate, are 3 and 9, respectively.
(10) In Rhode Island, the sora and Virginia rails limits are 3 daily and 9 in possession, singly or in the aggregate; the clapper and king rail limits are 1 daily and 3 in possession, singly or in the aggregate; the snipe limits are 5 daily and 15 in possession.
(11) In West Virginia, the daily bag and possession limit for sora and Virginia rails is 25; the possession limit for snipe is 16.
(12) In Alabama, the daily bag and possession limit for all rails, singly or in the aggregate, is 15.
(13) In Illinois, shooting hours are from sunrise to sunset.
(14) In Indiana, the sora rail limits are 12 daily and 36 in possession. The season on Virginia rails is closed.
(15) In Iowa, the limits for sora and Virginia rails are 12 daily and 24 in possession. The possession limit for woodcock is 6 and the possession limit for snipe is 16.
(16) Additional days occurring after September 30 will be published with the late season selections.
(17) In Nebraska, the rail limits are 10 daily and 30 in possession.
(18) In New Mexico, the rail limits are 10 daily and 20 in possession.
(19) In South Dakota, the snipe limits are 5 daily and 15 in possession.

6. Section 20.105 is revised to read as follows:

§ 20.105 Seasons, limits, and shooting hours for waterfowl, coots, and gallinules.

Subject to the applicable provisions of the preceding sections of this part, areas open to hunting, respective open seasons (dates inclusive), shooting and hawking hours, and daily bag and possession limits for the species designated in this section are prescribed as follows:

Shooting and hawking hours are one-half hour before sunrise until sunset, except as otherwise noted. Area descriptions were published in the July 31, 2014, Federal Register (79 FR 44580).

CHECK STATE REGULATIONS FOR AREA DESCRIPTIONS AND ANY ADDITIONAL RESTRICTIONS

Note: States with deferred seasons may select those seasons at the same time they select waterfowl seasons in August. Consult late-seasons regulations for further information.

(a) Common Moorhens and Purple Gallinules.

| Season dates | Limits: Bag | Limits: Possession
ATLANTIC FLYWAY
Delaware | Sept. 1-Nov. 8 | 15 | 45
Florida (1) | Sept. 1-Nov.9 | 15 | 45
Georgia | Deferred |  |
New Jersey | Sept. 1-Nov. 8 | 10 | 30
New York:
Long Island | Closed |  |
Remainder of State | Sept. 1-Nov. 9 | 8 | 24
North Carolina | Sept. 8-Oct. 11 & Oct. 27-Dec. 1 | 15 15 | 45 45
Pennsylvania | Sept. 1-Nov. 8 | 3 | 9
South Carolina | Sept. 8-Sept. 12 & Oct. 6-Dec. 9 | 15 15 | 45 45
Virginia | Sept. 8-Nov. 16 | 15 | 45
West Virginia | Deferred |  |
MISSISSIPPI FLYWAY
Alabama | Sept. 6-Sept. 21 & Nov. 28-Jan. 20 | 15 15 | 45 45
Arkansas | Sept. 1-Nov. 9 | 15 | 45
Kentucky | Sept. 1-Nov. 9 | 15 | 45
Louisiana (2) | Sept. 13-Sept. 28 | 15 | 45
Michigan | Sept. 1-Nov. 9 | 1 | 3
Minnesota | Deferred |  |
Mississippi | Sept. 13-Nov. 21 | 15 | 45
Ohio | Sept. 1-Nov. 9 | 15 | 45
Tennessee | Deferred |  |
Wisconsin | Deferred |  |
CENTRAL FLYWAY
New Mexico:
Zone 1 | Sept. 27-Dec. 5 | 1 | 3
Zone 2 | Sept. 27-Dec. 5 | 1 | 3
Oklahoma | Sept. 1-Nov. 9 | 15 | 45
Texas | Sept. 13-Sept. 28 & Nov. 1-Dec. 24 | 15 15 | 45 45
PACIFIC FLYWAY
All States | Deferred |  |
(1) The season applies to common moorhens only.
(2) Additional days occurring after September 30 will be published with the late season selections.

(b) Sea Ducks (scoter, eider, and long-tailed ducks in Atlantic Flyway).

Within the special sea duck areas, the daily bag limit is 7 scoter, eider, and long-tailed ducks, singly or in the aggregate, of which no more than 4 may be scoters. Possession limits are three times the daily bag limit. These limits may be in addition to regular duck bag limits only during the regular duck season in the special sea duck hunting areas.

| Season dates | Limits: Bag | Limits: Possession
Connecticut (1) | Sept. 22-Jan. 20 | 5 | 15
Delaware | Sept. 23-Jan. 24 | 7 | 21
Georgia | Deferred |  |
Maine (2) | Oct. 1-Jan. 31 | 7 | 21
Maryland | Deferred |  |
Massachusetts | Deferred |  |
New Hampshire (3) | Oct. 1-Jan. 15 | 7 | 21
New Jersey | Sept. 23-Jan. 24 | 7 | 21
New York | Oct. 17-Jan. 31 | 7 | 21
North Carolina | Deferred |  |
Rhode Island | Oct. 11-Jan. 25 | 5 | 15
South Carolina | Deferred |  |
Virginia | Deferred |  |
Note: Notwithstanding the provisions of this Part 20, the shooting of crippled waterfowl from a motorboat under power will be permitted in Connecticut, Delaware, Georgia, Maine, Maryland, Massachusetts, New Hampshire, New Jersey, New York, North Carolina, Rhode Island, South Carolina, and Virginia in those areas described, delineated, and designated in their respective hunting regulations as special sea duck hunting areas.
(1) In Connecticut, the daily bag limit may include no more than 4 long-tailed ducks.
(2) In Maine, the daily bag limit for eiders is 4, and the possession limit is 12.
(3) In New Hampshire, the daily bag limit may include no more than 4 eiders or 4 long-tailed ducks.

(c) Early (September) Duck Seasons.

Note: Unless otherwise specified, the seasons listed below are for teal only.

| Season dates | Limits: Bag | Limits: Possession
ATLANTIC FLYWAY
Delaware (1) | Sept. 12-Sept. 30 | 6 | 18
Florida (2) | Sept. 20-Sept. 28 | 6 | 18
Georgia | Sept. 13-Sept. 28 | 6 | 18
Maryland (1) | Sept. 16-Sept. 30 | 6 | 18
North Carolina (1) | Sept. 6-Sept. 24 | 6 | 18
South Carolina (3) | Sept. 12-Sept. 27 | 6 | 18
Virginia (1) | Sept. 17-Sept. 30 | 6 | 18
MISSISSIPPI FLYWAY
Alabama | Sept. 6-Sept. 21 | 6 | 18
Arkansas (3) | Sept. 13-Sept. 28 | 6 | 18
Illinois (3) | Sept. 6-Sept. 21 | 6 | 18
Indiana (3) | Sept. 6-Sept. 21 | 6 | 18
Iowa (3) | Sept. 6-Sept. 21 | 6 | 18
Kentucky (2) | Sept. 17-Sept. 25 | 6 | 18
Louisiana | Sept. 13-Sept. 28 | 6 | 18
Michigan | Sept. 1-Sept. 7 | 6 | 18
Mississippi | Sept. 13-Sept. 28 | 6 | 18
Missouri (3) | Sept. 6-Sept. 21 | 6 | 18
Ohio (3) | Sept. 6-Sept. 21 | 6 | 18
Tennessee (2) | Sept. 13-Sept. 21 | 6 | 18
Wisconsin | Sept. 1-Sept. 7 | 6 | 18
CENTRAL FLYWAY
Colorado (1) | Sept. 13-Sept. 21 | 6 | 18
Kansas:
Low Plains | Sept. 13-Sept. 28 | 6 | 18
High Plains | Sept. 20-Sept. 28 | 6 | 18
Nebraska (1):
Low Plains | Sept. 6-Sept. 21 | 6 | 18
High Plains | Sept. 6-Sept. 14 | 6 | 18
New Mexico | Sept. 13-Sept. 28 | 6 | 18
Oklahoma | Sept. 13-Sept. 28 | 6 | 18
Texas:
High Plains | Sept. 13-Sept. 28 | 6 | 18
Rest of State | Sept. 13-Sept. 28 | 6 | 18
(1) Area restrictions. See State regulations.
(2) In Florida, Kentucky, and Tennessee, the daily bag limit for the first 5 days of the season is 6 wood ducks and teal in the aggregate, of which no more than 2 may be wood ducks. During the last 4 days of the season, the daily bag limit is 6 teal only. The possession limit is twice the daily bag limit.
(3) Shooting hours are from sunrise to sunset.

(d) Special Early Canada Goose Seasons.

| Season dates | Limits: Bag | Limits: Possession
ATLANTIC FLYWAY
Connecticut (1):
North Zone | Sept. 2-Sept. 30 | 15 | 45
South Zone | Sept. 15-Sept. 30 | 15 | 45
Delaware | Sept. 1-Sept. 25 | 15 | 45
Florida | Sept. 6-Sept. 28 | 5 | 15
Georgia | Sept. 6-Sept. 28 | 5 | 15
Maine:
Northern Zone | Sept. 1-Sept. 25 | 6 | 18
Southern Zone | Sept. 1-Sept. 25 | 8 | 24
Coastal Zone | Sept. 1-Sept. 25 | 8 | 24
Maryland (1)(2):
Eastern Unit | Sept. 1-Sept. 15 | 8 | 24
Western Unit | Sept. 1-Sept. 25 | 8 | 24
Massachusetts:
Central Zone | Sept. 2-Sept. 25 | 7 | 21
Coastal Zone | Sept. 2-Sept. 25 | 7 | 21
Western Zone | Sept. 2-Sept. 25 | 7 | 21
New Hampshire | Sept. 2-Sept. 25 | 5 | 15
New Jersey (1)(2)(3) | Sept. 1-Sept. 30 | 15 | 45
New York (4):
Lake Champlain Zone | Sept. 2-Sept. 25 | 5 | 15
Northeastern Zone | Sept. 1-Sept. 25 | 15 | 45
East Central Zone | Sept. 1-Sept. 25 | 15 | 45
Hudson Valley Zone | Sept. 1-Sept. 25 | 15 | 45
West Central Zone | Sept. 1-Sept. 25 | 15 | 45
South Zone | Sept. 1-Sept. 25 | 15 | 45
Western Long Island Zone | Closed |  |
Central Long Island Zone | Sept. 2-Sept. 30 | 15 | 45
Eastern Long Island Zone | Sept. 2-Sept. 30 | 15 | 45
North Carolina (5)(6) | Sept. 1-Sept. 30 | 15 | 45
Pennsylvania (7):
SJBP Zone (8) | Sept. 1-Sept. 25 | 3 | 9
Rest of State (9) | Sept. 1-Sept. 25 | 8 | 24
Rhode Island (1) | Sept. 1-Sept. 30 | 15 | 45
South Carolina:
Early-Season Hunt Unit | Sept. 1-Sept. 30 | 15 | 45
Vermont:
Lake Champlain Zone | Sept. 2-Sept. 25 | 5 | 15
Interior Vermont Zone | Sept. 2-Sept. 25 | 5 | 15
Connecticut River Zone (10) | Sept. 2-Sept. 25 | 5 | 15
Virginia (11) | Sept. 1-Sept. 25 | 10 | 30
West Virginia | Sept. 1-Sept. 13 | 5 | 15
MISSISSIPPI FLYWAY
Alabama | Sept. 1-Sept. 15 | 5 | 15
Arkansas (12) | Sept. 1-Sept. 15 | 5 | 15
Illinois:
North Zone | Sept. 1-Sept. 15 | 5 | 15
Central Zone | Sept. 1-Sept. 15 | 5 | 15
South Central Zone | Sept. 1-Sept. 15 | 2 | 6
South Zone | Sept. 1-Sept. 15 | 2 | 6
Indiana | Sept. 1-Sept. 15 | 5 | 15
Iowa:
South Goose Zone:
Des Moines Goose Zone | Sept. 6-Sept. 14 | 5 | 15
Cedar Rapids/Iowa City Goose Zone | Sept. 6-Sept. 14 | 5 | 15
Remainder of South Zone | Closed |  |
North Goose Zone:
Cedar Falls/Waterloo Zone | Sept. 6-Sept. 14 | 5 | 15
Remainder of North Zone | Closed |  |
Kentucky (12) | Sept. 1-Sept. 15 | 5 | 15
Michigan:
North Zone | Sept. 1-Sept. 10 | 5 | 15
Middle Zone | Sept. 1-Sept. 15 | 5 | 15
South Zone:
Huron, Saginaw, and Tuscola Counties | Sept. 1-Sept. 10 | 5 | 15
Rest of South Zone | Sept. 1-Sept. 15 | 5 | 15
Minnesota:
Northwest Zone | Sept. 6-Sept. 22 | 5 | 15
Intensive Harvest Zone | Sept. 6-Sept. 22 | 10 | 30
Remainder of State | Sept. 6-Sept. 22 | 5 | 15
Mississippi | Sept. 1-Sept. 15 | 5 | 15
Ohio | Sept. 1-Sept. 15 | 5 | 15
Tennessee | Sept. 1-Sept. 15 | 5 | 15
Wisconsin | Sept. 1-Sept. 15 | 5 | 15
CENTRAL FLYWAY
North Dakota:
Missouri River Zone | Sept. 1-Sept. 7 | 15 | 45
Remainder of State | Sept. 1-Sept. 15 | 15 | 45
Oklahoma | Sept. 13-Sept. 22 | 8 | 24
South Dakota (12) | Sept. 1-Sept. 30 | 15 | 45
Texas:
East Zone | Sept. 13-Sept. 28 | 3 | 9
PACIFIC FLYWAY
Colorado | Sept. 1-Sept. 9 | 4 | 12
Oregon:
Northwest Zone | Sept. 6-Sept. 14 | 5 | 15
Southwest Zone (13) | Sept. 6-Sept. 10 | 5 | 15
East Zone | Sept. 6-Sept. 10 | 5 | 15
Washington:
Mgmt. Area 2B | Sept. 1-Sept. 15 | 15 | 45
Mgmt. Areas 1 & 3 | Sept. 10-Sept. 15 | 5 | 15
Mgmt. Area 4 & 5 | Sept. 13-Sept. 14 | 3 | 6
Mgmt. Area 2A | Sept. 10-Sept. 15 | 3 | 6
Wyoming:
Teton County | Sept. 1-Sept. 8 | 3 | 9
Rest of State | Sept. 1-Sept. 8 | 2 | 6
(1) Shooting hours are one-half hour before sunrise to one-half hour after sunset.
(2) The use of shotguns capable of holding more than 3 shotshells is allowed.
(3) The use of electronic calls is allowed.
(4) In New York, in all areas except the Northeastern Goose Hunting Area, shooting hours are one-half hour before sunrise to one-half hour after sunset, the use of shotguns capable of holding more than 3 shotshells is allowed, and the use of electronic calls is allowed. In the Northeastern Goose Hunting Area, shooting hours are one-half hour before sunrise to one-half hour after sunset, shotguns capable of holding more than 3 shotshells are allowed, and electronic calls are allowed only from September 1 to September 19 and September 22 to September 25. On September 20 and September 21, shooting hours are one-half hour before sunrise to sunset, shotguns must be capable of holding no more than 3 shotshells, and electronic calls are not allowed.
(5) In North Carolina, the use of unplugged guns and electronic calls is allowed in that area west of U.S. Highway 17 only.
(6) In North Carolina, shooting hours are one-half hour before sunrise to one-half hour after sunset in that area west of U.S. Highway 17 only.
(7) In Pennsylvania, shooting hours are one-half hour before sunrise to one-half hour after sunset from September 1 to September 19, September 21 to September 25. On September 20, shooting hours are one-half hour before sunrise to sunset.
(8) In Pennsylvania, in the area south of SR 198 from the Ohio State line to intersection of SR 18, SR 18 south to SR 618, SR 618 south to US Route 6, US Route 6 east to US Route 322/SR 18, US Route 322/SR 18 west to intersection of SR 3013, SR 3013 south to the Crawford/Mercer County line, not including the Pymatuning State Park Reservoir and an area to extend 100 yards inland from the shoreline of the reservoir, excluding the area east of SR 3011 (Hartstown Road), the daily bag limit is one goose with a possession limit of 3 geese. The season is closed on State Game Lands 214. However, during the youth waterfowl hunting day on September 20, regular season regulations apply.
(9) In Pennsylvania, in the area of Lancaster and Lebanon Counties north of the Pennsylvania Turnpike, east of SR 501 to SR 419, south of SR 419 to the Lebanon-Berks County line, west of the Lebanon-Berks County line and the Lancaster-Berks County line to SR 1053, west of SR 1053 to the Pennsylvania Turnpike I-76, the daily bag limit is 1 goose with a possession limit of 3 geese. On State Game Lands No. 46 (Middle Creek Wildlife Management Area), the season is closed. However, during the youth waterfowl hunting day on September 20, regular season regulations apply.
(10) In Vermont, the season in the Connecticut River Zone is the same as the New Hampshire Inland Zone season, set by New Hampshire.
(11) In Virginia, shooting hours are one-half hour before sunrise to one-half hour after sunset from September 1 to September 16, and one-half hour before sunrise to sunset from September 17 to September 25 in the area east of I-95 where the September teal season is open. Shooting hours are one-half hour before sunrise to one-half hour after sunset from September 1 to September 21, and one-half hour before sunrise to sunset from September 22 to September 25 in the area west of I-95.
(12) See State regulations for additional information and restrictions.
(13) In Oregon, the season is closed in the Southcoast Zone.

(e) Regular Goose Seasons.

Note: Bag and possession limits will conform to those set for the regular season. Additional season dates occurring after September 30 will be published with the late season selections.

| Season dates | Limits: Bag | Limits: Possession
MISSISSIPPI FLYWAY
Michigan:
Canada Geese:
North Zone | Sept. 11-Sept. 30.
Middle Zone | Sept. 20-Sept. 28.
South Zone:
Muskegon GMU | Deferred.
Allegan Co. GMU | Deferred.
Saginaw Co. GMU | Sept. 20-Sept. 22.
Tuscola/Huron Co. GMU | Sept. 20-Sept. 28.
Remainder of Zone | Sept. 20-Sept. 22.
White-fronted Geese:
North Zone | Sept. 11-Sept. 30.
Middle Zone | Deferred.
South Zone:
Muskegon GMU | Deferred.
Allegan Co. GMU | Deferred.
Saginaw Co. GMU | Deferred.
Tuscola/Huron Co. GMU | Deferred.
Remainder of Zone | Deferred.
Light Geese:
North Zone | Sept. 11-Sept. 30.
Middle Zone | Sept. 20-Sept. 28.
South Zone:
Muskegon GMU | Deferred.
Allegan Co. GMU | Deferred.
Saginaw Co. GMU | Sept. 20-Sept. 22.
Tuscola/Huron Co. GMU | Sept. 20-Sept. 28.
Remainder of Zone | Deferred.
Brant:
North Zone | Same as for Light Geese.
Middle Zone | Same as for Light Geese.
South Zone | Same as for Light Geese.
Wisconsin:
Canada Geese:
North Zone | Sept. 16-Sept. 30.
South Zone | Sept. 16-Sept. 30.
Mississippi River Zone | Sept. 27-Sept. 30.
Horicon Zone | Sept. 16-Sept. 30.
White-fronted Geese:
North Zone | Sept. 16-Sept. 30.
South Zone | Sept. 16-Sept. 30.
Mississippi River Zone | Deferred.
Horicon Zone | Sept. 20-Sept. 30.
Light Geese | Same as for Canada Geese.
Brant | Same as for Canada Geese |  |

(f) Youth Waterfowl Hunting Days.

The following seasons are open only to youth hunters. Youth hunters must be accompanied into the field by an adult at least 18 years of age. This adult cannot duck hunt but may participate in other open seasons.

Definitions

Youth Hunters: Includes youths 15 years of age or younger.

The Atlantic Flyway: Includes Connecticut, Delaware, Florida, Georgia, Maine, Maryland, Massachusetts, New Hampshire, New Jersey, New York, North Carolina, Pennsylvania, Rhode Island, South Carolina, Vermont, Virginia, and West Virginia.

The Mississippi Flyway: Includes Alabama, Arkansas, Illinois, Indiana, Iowa, Kentucky, Louisiana, Michigan, Minnesota, Mississippi, Missouri, Ohio, Tennessee, and Wisconsin.

The Central Flyway: Includes Colorado (east of the Continental Divide), Kansas, Montana (Blaine, Carbon, Fergus, Judith Basin, Stillwater, Sweetgrass, Wheatland, and all Counties east thereof), Nebraska, New Mexico (east of the Continental Divide except that the Jicarilla Apache Indian Reservation is in the Pacific Flyway), North Dakota, Oklahoma, South Dakota, Texas, and Wyoming (east of the Continental Divide).

The Pacific Flyway: Includes Arizona, California, Colorado (west of the Continental Divide), Idaho, Montana (including and to the west of Hill, Chouteau, Cascade, Meagher, and Park Counties), Nevada, New Mexico (the Jicarilla Apache Indian Reservation and west of the Continental Divide), Oregon, Utah, Washington, and Wyoming (west of the Continental Divide including the Great Divide Basin).

Note: Bag and possession limits will conform to those set for the regular season unless there is a special season already open (e.g., September Canada goose season), in which case, that season's daily bag limit will prevail.

|  | Season dates
ATLANTIC FLYWAY
Connecticut |  | Deferred.
Delaware | Ducks, geese, brant, mergansers, and coots | Oct. 4 & Feb. 7.
Florida |  | Deferred.
Georgia | Ducks, geese, mergansers, coots, moorhens, and gallinules | Nov. 15 & 16.
Maine | Ducks, geese, mergansers, and coots |
| North Zone | Sept. 20 & Dec. 13.
| South Zone | Sept. 20 & Oct. 25
| Coastal Zone | Sept. 20 & Nov. 8.
Maryland (1) |  | Deferred.
Massachusetts |  | Deferred.
New Hampshire | Ducks, geese, mergansers, and coots | Sept. 27 & 28.
New Jersey |  | Deferred.
New York (2) | Ducks, mergansers, coots, brant, and Canada geese |
| Long Island Zone | Nov. 22 & 23.
| Lake Champlain Zone | Sept. 27 & 28.
| Northeastern Zone | Sept. 20 & 21
| Southeastern Zone | Sept. 27 & 28.
| Western Zone | Oct. 4 & 5.
North Carolina |  | Deferred.
Pennsylvania | Ducks, mergansers, Canada geese, coots, and moorhens | Sept. 20.
Rhode Island | Ducks, mergansers and coots | Oct. 25 & 26.
South Carolina |  | Deferred.
Vermont | Ducks, geese, mergansers and coots | Sept. 27 & 28.
Virginia |  | Deferred.
West Virginia (3) | Ducks, geese, mergansers, coots, and gallinules | Sept. 20 & Nov. 8.
MISSISSIPPI FLYWAY
Alabama | Ducks, mergansers, coots, geese, moorhens, and gallinules | Feb. 7 & 8.
Arkansas |  | Deferred.
Illinois |  | Deferred.
Indiana |  | Deferred.
Iowa |  | Deferred.
Kentucky |  | Deferred.
Louisiana |  | Deferred.
Michigan | Ducks, geese, mergansers, coots, moorhens, and gallinules | Sept. 13 & 14.
Minnesota | Ducks, geese, mergansers, coots, moorhens, and gallinules | Sept. 13.
Mississippi |  | Deferred.
Missouri |  | Deferred.
Ohio |  | Deferred.
Tennessee |  | Deferred.
Wisconsin | Ducks, geese, mergansers, coots, moorhens, and gallinules | Sept. 20 & 21.
CENTRAL FLYWAY
Colorado | Ducks, dark geese, mergansers, and coots |
| Mountain/Foothills Zone | Sept. 27 & 28.
| Northeast Zone | Oct. 4 & 5.
| Southeast Zone | Oct. 18 & 19.
Kansas (4) |  | Deferred.
Montana | Ducks, geese, mergansers, and coots | Sept. 27 & 28.
Nebraska (5) | Ducks, geese, mergansers, and coots | Deferred.
New Mexico | Ducks, mergansers, coots, and moorhens |
| North Zone | Sept. 27 & 28.
| South Zone | Oct. 11 & 12.
North Dakota | Ducks, geese, mergansers, and coots | Sept. 20 & 21.
Oklahoma |  | Deferred.
South Dakota (6) | Ducks, Canada geese, mergansers, and coots | Sept. 20 & 21.
Texas |  | Deferred.
Wyoming | Ducks, geese, mergansers, and coots |
| Zone C1 | Sept. 27 & 28.
| Zone C2 | Sept. 20 & 21.
| Zone C3 | Sept. 20 & 21.
PACIFIC FLYWAY |  |
Arizona |  | Deferred.
California | Ducks, geese, mergansers, coots, and moorhens |
| Northeastern Zone | Sept. 20 & 21.
| Rest of State | Deferred.
Colorado | Ducks, geese, mergansers, and coots | Oct. 18 & 19.
Idaho | Ducks, geese, mergansers, and coots | Sept. 27 & 28.
Montana | Ducks, geese, mergansers, and coots | Sept. 27 & 28.
Nevada | Ducks, geese, mergansers, coots, and moorhens |
| Northeast Zone | Sept. 13 & 14.
| Rest of State | Deferred.
New Mexico | Ducks, mergansers, coots, and moorhens | Oct. 4 & 5.
Oregon (7) | Ducks, geese, mergansers, and coots | Sept. 27 & 28.
Utah | Ducks, dark geese, mergansers, and coots | Sept. 20.
Washington (8) | Ducks, Canada geese, mergansers, and coots | Sept. 20 & 21.
Wyoming | Ducks, dark geese, mergansers, and coots | Sept. 20 & 21.
(1) In Maryland, the accompanying adult must be at least 21 years of age and possess a valid Maryland hunting license (or be exempt from the license requirement). This accompanying adult may not shoot or possess a firearm.
(2) In New York, the daily bag limit for Canada geese is 3.
(3) In West Virginia, the accompanying adult must be at least 21 years of age.
(4) In Kansas, the adult accompanying the youth must possess any licenses and/or stamps required by law for that individual to hunt waterfowl.
(5) In Nebraska, see State regulations for additional information on the daily bag limit.
(6) In South Dakota, the limit for Canada geese is 4, except in areas where the Special Early Canada goose season is open. In those areas, the limit is the same as for that special season.
(7) In Oregon, the goose season is closed for the youth hunt in the Northwest Special Permit Goose Zone and the Northwest General Zone.
(8) In Washington, the Canada goose season is closed in Goose Areas 2A and 2B.

7. Section 20.106 is revised to read as follows:

§ 20.106 Seasons, limits, and shooting hours for sandhill cranes.

Subject to the applicable provisions of the preceding sections of this part, areas open to hunting, respective open seasons (dates inclusive), shooting and hawking hours, and daily bag and possession limits on the species designated in this section are as follows:

Shooting and hawking hours are one-half hour before sunrise until sunset, except as otherwise noted. Area descriptions were published in the July 31, 2014, Federal Register (79 FR 44580).

Federally authorized, State-issued permits are issued to individuals, and only the individual whose name and address appears on the permit at the time of issuance is authorized to take sandhill cranes at the level allowed by the permit, in accordance with provisions of both Federal and State regulations governing the hunting season. The permit must be carried by the permittee when exercising its provisions and must be presented to any law enforcement officer upon request. The permit is not transferable or assignable to another individual, and may not be sold, bartered, traded, or otherwise provided to another person. If the permit is altered or defaced in any way, the permit becomes invalid.

CHECK STATE REGULATIONS FOR AREA DESCRIPTIONS AND ANY ADDITIONAL RESTRICTIONS.

Note: States with deferred seasons may select those seasons at the same time they select waterfowl seasons in August. Consult late-season regulations for further information.

| Season dates | Limits: Bag | Limits: Possession
MISSISSIPPI FLYWAY
Kentucky (1) | Deferred |  |
Minnesota (1):
NW Goose Zone | Sept. 13-Oct. 19 | 1 | 3
Tennessee (1) | Deferred |  |
CENTRAL FLYWAY
Colorado (1) | Oct. 4-Nov. 30 | 3 | 9
Kansas (1)(2)(3) | Nov. 5-Jan. 1 | 3 | 9
Montana:
Regular Season Area (1) | Oct. 4-Nov. 30 | 3 | 9 per season
Special Season Area (4) | Sept. 13-Oct. 5 | 2 per season
New Mexico:
Regular Season Area (1) | Oct. 31-Jan. 31 | 3 | 6
Middle Rio Grande Valley Area (4)(5) | Oct. 25-Oct. 26 & | 2 per season
| Nov. 15-Nov. 16 & | 2 per season
| Nov. 8 & | 2 per season
| Nov. 29-Nov. 30 & | 2 per season
| Jan. 10-Jan. 11 | 2 per season
Southwest Area (4) | Oct. 25-Nov. 2 & | 2 per season
| Jan. 3-Jan. 4 | 2 per season
Estancia Valley (4) | Oct. 25-Nov. 2 | 2 per season
North Dakota (1):
Area 1 | Sept. 20-Nov. 16 | 3 | 9
Area 2 | Sept. 20-Nov. 16 | 2 | 6
Oklahoma (1) | Deferred |  |
South Dakota (1) | Sept. 27-Nov. 23 | 3 | 9
Texas (1) | Deferred |  |
Wyoming:
Regular Season (Area 7) (1) | Sept. 13-Nov. 9 | 3 | 9
Riverton-Boysen Unit (Area 4) (4) | Sept. 13-Oct. 5 | 1 per season
Big Horn, Hot Springs, Park, and Washakie Counties (Area 6) (4) | Sept. 13-Oct. 5 | 1 per season
PACIFIC FLYWAY
Arizona (4):
Special Season Area | Nov. 7-Nov. 9 & | 1 per season
| Nov. 14-Nov. 16 & | 2 per season
| Nov. 18-Nov. 20 & | 2 per season
| Nov. 22-Nov. 24 & | 2 per season
| Nov. 26-Nov. 28 & | 2 per season
| Dec. 5-Dec. 7 | 2 per season
Lower CO River Hunt Area | Closed |  |
Idaho (4):
Areas 1, 2, 3, 5, & 6 | Sept. 1-Sept. 15 | 2 | 2 per season
Area 4 | Closed |  |
Montana (4):
Special Season Area (4) | Sept. 13-Oct. 5 | 2 per season
Utah (4):
Rich County | Sept. 6-Sept. 14 | 1 per season
Cache County | Sept. 6-Sept. 14 | 1 per season
Eastern Box Elder County | Sept. 6-Sept. 14 | 1 per season
Uintah County | Sept. 20-Oct. 19 | 1 per season
Wyoming (4):
Bear River Area (Area 1) | Sept. 1-Sept. 8 | 1 per season
Salt River Area (Area 2) | Sept. 1-Sept. 8 | 1 per season
Eden-Farson Area (Area 3) | Sept. 1-Sept. 8 | 1 per season
Uinta County (Area 5) | Sept. 1-Sept. 8 | 1 per season
(1) Each person participating in the regular sandhill crane seasons must have a valid sandhill crane hunting permit and/or a State-issued Harvest Information Survey Program (HIP) certification for game bird hunting in their possession while hunting.
(2) In Kansas, shooting hours are from sunrise until sunset.
(3) In Kansas, each person desiring to hunt sandhill cranes is required to pass an annual, online sandhill crane identification examination.
(4) Hunting is by State permit only. See State regulations for further information.
(5) In New Mexico, in the Middle Rio Grande Valley Area (Bernardo WMA and Casa Colorado WMA), the season is only open for youth hunters on November 8. See State regulations for further details.

8. Section 20.109 is revised to read as follows:

§ 20.109 Extended seasons, limits, and hours for taking migratory game birds by falconry.

Subject to the applicable provisions of the preceding sections of this part, areas open to hunting, respective open seasons (dates inclusive), hawking hours, and daily bag and possession limits for the species designated in this section are prescribed as follows:

Hawking hours are one-half hour before sunrise until sunset except as otherwise noted. Area descriptions were published in the July 31, 2014, Federal Register (79 FR 44580). For those extended seasons for ducks, mergansers, and coots, area descriptions were published in an August 22, 2014 Federal Register and will be published again in a late-September 2014, Federal Register.

CHECK STATE REGULATIONS FOR AREA DESCRIPTIONS AND ANY ADDITIONAL RESTRICTIONS

Daily bag limit—3 migratory birds, singly or in the aggregate.

Possession limit—9 migratory birds, singly or in the aggregate.

These limits apply to falconry during both regular hunting seasons and extended falconry seasons — unless further restricted by State regulations. The falconry bag and possession limits are not in addition to regular season limits. Unless otherwise specified, extended falconry for ducks does not include sea ducks within the special sea duck areas. Only extended falconry seasons are shown below. Many States permit falconry during the gun seasons. Please consult State regulations for details.

For ducks, mergansers, coots, geese, and some moorhen seasons; additional season days occurring after September 30 will be published with the late-season selections. Some States have deferred selections. Consult late-season regulations for further information.

| Extended falconry dates
ATLANTIC FLYWAY
Delaware
Doves | Jan. 15-Jan. 31.
Rails | Nov. 10-Dec. 17.
Woodcock | Sept. 29-Oct. 4 & Jan. 14-Mar. 10.
Florida
Doves | Jan. 16-Feb. 1.
Rails | Nov. 10-Dec. 16.
Woodcock | Nov. 24-Dec. 17 & Feb. 1-Mar. 10.
Common moorhens | Nov. 10-Dec. 14.
Georgia
Moorhens, gallinules, and sea ducks | Dec. 1-Dec. 5 & Jan. 26-Jan. 28.
Maryland
Doves | Jan. 16-Feb. 1.
Rails | Nov. 9-Dec. 16.
Woodcock | Oct. 1-Oct. 29 & Feb. 6-Mar. 10.
North Carolina
Doves | Oct. 16-Nov. 1.
Rails, moorhens, and gallinules | Dec. 6-Jan. 10.
Woodcock | Nov. 8-Dec. 6 & Feb. 2-Feb. 28.
Pennsylvania
Doves | Nov. 17-Nov. 21 & Dec. 1-Dec. 12.
Rails | Nov. 10-Dec. 17.
Woodcock and snipe | Sept. 1-Oct. 17 & Dec. 1-Dec. 17.
Moorhens and gallinules | Nov. 10-Dec. 17.
Virginia
Doves | Nov. 1 & Jan. 16-Jan. 31.
Woodcock | Oct. 17-Nov. 23 & Dec. 7-Dec. 14 & Jan. 16-Jan. 31.
Rails, moorhens, and gallinules | Nov. 17-Dec. 23.
MISSISSIPPI FLYWAY
Illinois
Doves | Nov. 15-Dec. 1.
Rails | Sept. 1-Sept. 5 & Nov. 15-Dec. 16.
Woodcock | Sept. 1-Oct. 17 & Dec. 2-Dec. 16.
Indiana
Doves | Oct. 20-Oct. 31 & Jan. 12-Jan. 18.
Woodcock | Sept. 20-Oct. 14 & Nov. 29-Jan. 4.
Ducks, mergansers, and coots (1) North Zone | Sept. 27-Sept. 30.
Louisiana
Doves | Sept. 15-Oct. 1.
Woodcock | Oct. 28-Dec. 17 & Feb. 1-Feb. 11.
Minnesota
Woodcock | Sept. 1-Sept. 19 & Nov. 4-Dec. 16.
Rails and snipe | Nov. 4-Dec. 16.
Doves | Nov. 10-Dec. 16.
Missouri
Doves | Nov. 10-Dec. 16.
Ducks, mergansers, and coots | Sept. 6-Sept. 21.
Tennessee
Doves | Sept. 29-Oct. 10 & Nov. 3-Nov. 7.
Ducks (1) | Sept. 15-Oct. 20.
Wisconsin
Rails, snipe, moorhens, and gallinules (1) | Sept. 1-Sept. 26
Woodcock | Sept. 1-Sept. 20.
Ducks, mergansers, and coots | Sept. 20-Sept. 21.
CENTRAL FLYWAY
Montana (2)
Ducks, mergansers, and coots (1) | Sept. 24-Sept. 30.
Nebraska
Ducks, mergansers, and coots Zone 1 | Sept. 6-Sept. 21.
Zone 2:
Low Plains | Sept. 6-Sept. 21.
High Plains | Sept. 6-Sept. 14.
Zone 3:
Low Plains | Sept. 6-Sept. 21.
High Plains | Sept. 6-Sept. 14.
Zone 4 | Sept. 6-Sept. 21.
New Mexico
Doves
North Zone | Nov. 10-Nov. 12 & Nov. 28-Dec. 31.
South Zone | Oct. 14-Nov. 12 & Nov. 28-Dec. 4.
Band-tailed pigeons
North Zone | Sept. 21-Dec. 16.
South Zone | Oct. 21-Jan. 15.
Ducks and coots | Sept. 13-Sept. 21.
Sandhill cranes
Regular Season Area | Oct. 17-Oct. 30.
Estancia Valley Area (3) | Nov. 3-Dec. 23.
Common moorhens | Dec. 6-Jan. 11.
Sora and Virginia rails | Nov. 22-Dec. 28.
North Dakota
Ducks, mergansers, coots, and snipe | Sept. 8-Sept. 12 & Sept. 15-Sept. 19.
South Dakota
Ducks, mergansers, and coots (1) High Plains | Sept. 1-Sept. 8.
Low Plains:
North Zone | Sept. 1-Sept. 14 & Sept. 18-Sept. 22.
Middle Zone | Sept. 1-Sept. 14 & Sept. 18-Sept. 22.
South Zone | Sept. 1-Sept. 14 & Sept. 18-Sept. 22.
Texas
Doves | Nov. 8-Dec. 14.
Rails, gallinules, and woodcock | Jan. 26-Feb. 9.
Wyoming
Rails | Nov. 10-Dec. 16.
Ducks, mergansers, and coots Zone C1 | Sept. 27-Sept. 28 & Oct. 23-Oct. 30.
Zone C2 & C3 | Sept. 20-Sept. 26 & Dec. 8-Dec. 10.
PACIFIC FLYWAY
Arizona
Doves | Sept. 16-Nov. 1.
New Mexico
Doves
North Zone | Nov. 10-Nov. 12 & Nov. 28-Dec. 31.
South Zone | Oct. 14-Nov. 12 & Nov. 28-Dec. 4.
Band-tailed pigeons
North Zone | Sept. 21-Dec. 16.
South Zone | Oct. 21-Jan. 15.
Oregon
Doves | Oct. 31-Dec. 16.
Band-tailed pigeons (4) | Sept. 1-Sept. 14 & Sept. 24-Dec. 16.
Utah
Doves | Nov. 1-Dec. 16.
Band-tailed pigeons | Oct. 1-Dec. 16.
Washington
Doves | Oct. 1-Dec. 16.
Wyoming
Rails | Nov. 10-Dec. 16.
Ducks, mergansers, and coots (1) | Sept. 20-Sept. 21.
(1) Additional days occurring after September 30 will be published with the late-season selections.
(2) In Montana, the bag limit is 2 and the possession limit is 6.
(3) In New Mexico, the bag limit for sandhill cranes in the Estancia Valley Area is 2 per day and the possession limit is 2 per season.
(4) In Oregon, no more than 1 pigeon daily in bag or possession.

[FR Doc. 2014-20363 Filed 8-28-14; 8:45 am]

BILLING CODE 4310-55-P